DEPARTMENT OF COMMERCE

Economics and Statistics Administration

[Docket No. 050331090-5090-01]

Impact of Increased Natural Gas Prices on U.S. Industries

AGENCY: Office of Policy Development, Commerce.

ACTION: Notice of inquiry.

SUMMARY: The Economics and Statistics Administration (ESA) is seeking public comment on the impact that recent (2000 through present) increases in natural gas prices had and will have on U.S. manufacturing industries. This notice of inquiry is part of an effort to collect information to assist in the preparation of a study and a report that the Congress has charged the Secretary of Commerce, in cooperation with the Secretaries of Energy and Labor, to prepare on the economic impact of rising natural gas prices.

DATES: Written comments on this notice must be submitted on or before May 16, 2005.

ADDRESSES: You may submit comments by any of the following methods:

E-mail: david.henry@esa.doc.gov. Include the phrase “Natural Gas Price Impacts on Industry” in the subject line;

Fax: (202) 482-0325 (Attn: David Henry);

Mail or Hand Delivery/Courier: David Henry, U.S. Department of Commerce, Economics and Statistics Administration, Office of Policy Development,14th Street & Pennsylvania Avenue, NW., Room 4875, Washington, DC 20230.

FOR FURTHER INFORMATION CONTACT: For questions on the submission of comments, contact David Henry, Office of Policy Development, Economics and Statistics Administration, U.S. Department of Commerce, on (202) 482-2566 or by e-mail at david.henry@esa.doc.gov.

SUPPLEMENTARY INFORMATION: The Conference Report accompanying Pub. L. 108-447 (Consolidated Appropriations Act of 2005) directs the Secretary of Commerce, in cooperation with the Secretaries of Energy and Labor, to examine and prepare a study on the economic impact of natural gas prices on energy-intensive industries in the U.S. and potential market adjustments thereto, including shifting energy-intensive industries overseas. Remarks by Congressman Michael Castle on the floor of the House on July 7, 2004 explain the study request further. 150 Cong. Rec. H5259-01. The Secretary of Commerce is directed to report his findings to the Committees on Appropriations for the U.S. House of Representatives and the U.S. Senate. The Secretary of Commerce appointed the Under Secretary for Economic Affairs to lead this interagency study.

In order to assist in the interagency study underway, ESA is seeking public comment on what the impacts have been and will be on U.S. manufacturing industries resulting from rising natural gas prices, particularly those manufacturing industries that are energy-intensive, e.g. chemicals, nitrogenous fertilizer manufacturing, paper, glass and plastics. Information on industry impacts of rising natural gas prices that are being sought include, but are not limited to, their impact on (1) employment, production and prices; (2) investment decisions and capital expenditures; (3) export markets and competition from imports; and (4) the possibility of use of alternative fuel and/or feedstock choices.

All comments must be submitted to the address indicated in this notice. The Department requires that all comments be submitted in written form.

The Department encourages interested persons who wish to comment to do so at the earliest possible time. The period for submission of comments will close on May 16, 2005. The Department will consider all comments received before the close of the comment period. Comments received after the end of the comment period will be considered if possible, but their consideration cannot be assured. The Department will not accept comments accompanied by a request that a part or all of the material be treated confidentially because of its business proprietary nature or for any other reason. The Department will return such comments and materials to the persons submitting the comments and will not consider them. All comments submitted in response to this notice will be a matter of public record and will be available for public inspection and copying.

The Office of Policy Development of the Economics and Statistics Administration, U.S. Department of Commerce will display public comments on the response to this request on the ESA Web site at http://www.esa.doc.gov/ng. The office does not maintain a separate public inspection facility. If you have technical difficulties accessing this Web site, please call David Henry at (202) 482-2566, for assistance.

Dated: April 5, 2005.
Kathleen B. Cooper,
Under Secretary for Economic Affairs.

[FR Doc. 05-7259 Filed 4-8-05; 8:45 am]

BILLING CODE 3510-06-P